DEPARTMENT OF COMMERCE

International Trade Administration

[A-555-002, A-301-805, A-533-917, A-557-825, A-471-808, A-583-872, A-570-152, A-552-836]

Certain Paper Shopping Bags From Cambodia, Colombia, India, Malaysia, Portugal, Taiwan, the People's Republic of China, and the Socialist Republic of Vietnam: Antidumping Duty Orders

AGENCY: Enforcement and Compliance, International Trade Administration, Department of Commerce.

SUMMARY: Based on affirmative final determinations by the U.S. Department of Commerce (Commerce) and the U.S. International Trade Commission (ITC), Commerce is issuing antidumping duty (AD) orders on certain paper shopping bags (paper bags) from Cambodia, Colombia, India, Malaysia, Portugal, Taiwan, the People's Republic of China (China), and the Socialist Republic of Vietnam (Vietnam).

DATES: Applicable July 18, 2024.

FOR FURTHER INFORMATION CONTACT: Charles Doss or Kyle Clahane at (202) 482-4474 or (202) 482-5449, respectively (Cambodia); Jinny Ahn or Tyler Weinhold at (202) 482-0339 or (202) 482-1121, respectively (China); Laurel LaCivita at (202) 482-4243 (Colombia); Nathan Araya or Gorden Struck at (202) 482-3401 or (202) 482-8151, respectively (India); Daniel Alexander at (202) 482-4313 (Malaysia); Colin Thrasher at (202) 482-3004 (Portugal); Nathan James at (202) 482-5305 (Taiwan); Myrna Lobo at (202) 482-2371 (Vietnam), AD/CVD Operations, Offices II, III, IV, V, VI, and VII Enforcement and Compliance, International Trade Administration, U.S. Department of Commerce, 1401 Constitution Avenue NW, Washington, DC 20230.

SUPPLEMENTARY INFORMATION:

Background

On May 24, 2024, Commerce published in the Federal Register its affirmative final determinations in the less-than-fair-value (LTFV) investigations of paper bags from Cambodia, China, Colombia, India, Malaysia, Portugal, Taiwan, and Vietnam in accordance with sections 735(d) and 777(i) of the Tariff Act of 1930, as amended (the Act).¹ On July 5, 2024, the ITC notified Commerce of its affirmative final determinations, pursuant to section 735(d) of the Act, that an industry in the United States is materially injured within the meaning of section 735(b)(1)(A)(i) of the Act by reason of LTFV imports of paper bags from Cambodia, China, Colombia, India, Malaysia, Portugal, Taiwan, and Vietnam.² On July 10, 2024, in accordance with section 735(d) of the Act, the ITC published in the Federal Register its affirmative final injury determination in these investigations in which it found that an industry in the United States is materially injured by reason of imports of paper bags from Cambodia, China, Colombia, India, Malaysia, Portugal, Taiwan, and Vietnam.³

¹ See Certain Paper Shopping Bags from Cambodia: Final Affirmative Determination of Sales at Less Than Fair Value and Final Affirmative Determination of Critical Circumstances, In Part, 89 FR 45841 (May 24, 2024) (Cambodia Final Determination), and accompanying Issues and Decision Memorandum (IDM); see also Certain Paper Shopping Bags from the People's Republic of China: Final Affirmative Determination of Sales at Less Than Fair Value and Final Affirmative Critical Circumstances Determination, 89 FR 45823 (May 24, 2024) (China Final Determination), and accompanying IDM; Certain Paper Shopping Bags from Colombia: Final Affirmative Determination of Sales at Less Than Fair Value, 89 FR 45843 (May 24, 2024) (Colombia Final Determination), and accompanying IDM; Certain Paper Shopping Bags from India: Final Affirmative Determination of Sales at Less Than Fair Value and Final Negative Determination of Critical Circumstances, 89 FR 45826 (May 24, 2024) (India Final Determination), and accompanying IDM; Certain Paper Shopping Bags from Malaysia: Final Affirmative Determination of Sales at Less Than Fair Value, 89 FR 45821 (May 24, 2024) (Malaysia Final Determination), and accompanying IDM; Certain Paper Shopping Bags from Portugal: Final Affirmative Determination of Sales at Less Than Fair Value and Final Negative Determination of Critical Circumstances, 89 FR 45845 (May 24, 2024) (Portugal Final Determination), and accompanying IDM; Certain Paper Shopping Bags from Taiwan: Final Affirmative Determination of Sales at Less Than Fair Value and Final Affirmative Determination of Critical Circumstances, in Part, 89 FR 45832 (May 24, 2024) (Taiwan Final Determination), and accompanying IDM; and Certain Paper Shopping Bags from the Socialist Republic of Vietnam: Final Affirmative Determination of Sales at Less Than Fair Value and Final Affirmative Determination of Critical Circumstances, 89 FR 45839 (May 24, 2024) (Vietnam Final Determination), and accompanying IDM (collectively, Final Determinations).

² See ITC's Letter, Investigation Nos. 701-TA-690-691, 731-TA-1619-1625, and 731-TA-1627 (Final), dated July 10, 2024.

³ See Paper Shopping Bags from Cambodia, China, Colombia, India, Malaysia, Portugal, Taiwan, and Vietnam, 89 FR 56776 (July 10, 2024) (ITC Final Determination).

Scope of the Orders

The products covered by these orders are paper bags from Cambodia, China, Colombia, India, Malaysia, Portugal, Taiwan, and Vietnam. For a complete description of the scope of these orders, see the appendix to this notice.

Antidumping Duty Orders

Based on the above-referenced affirmative final determinations, in accordance with section 735(c)(2) and 736 of the Act, Commerce is issuing these AD orders. Because the ITC determined that imports of paper bags from Cambodia, China, Colombia, India, Malaysia, Portugal, Taiwan, and Vietnam are materially injuring a U.S. industry, unliquidated entries of such merchandise entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of paper bags from Cambodia, China, Colombia, India, Malaysia, Portugal, Taiwan, and Vietnam. With the exception of entries occurring after the expiration of the provisional measures period and before publication of the ITC's final affirmative injury determinations, as further described below, antidumping duties will be assessed on unliquidated entries of paper bags entered, or withdrawn from warehouse, for consumption, on or after January 3, 2024, the date of publication of the Preliminary Determinations.⁴ Because Commerce made final affirmative determinations of sales at LTFV, Commerce directed CBP to continue suspension of liquidation of paper bags from Cambodia, China, Colombia, India, Malaysia, Portugal, Taiwan, and Vietnam entered or withdrawn from warehouse for consumption, on or after May 24, 2024, the date of publication of the Final Determinations.⁵

⁴ See Certain Paper Shopping Bags from Cambodia: Preliminary Affirmative Determination of Sales at Less Than Fair Value, Preliminary Affirmative Determination of Sales at Less Than Fair Value, Preliminary Affirmative Determination of Critical Circumstances, in Part, Postponement of Final Determination, and Extension of Provisional Measures, 89 FR 325 (January 3, 2024) (Cambodia Preliminary Determination), and accompanying Preliminary Decision Memorandum (PDM); see also Certain Paper Shopping Bags from the People's Republic of China: Preliminary Affirmative Determination of Critical Circumstances, Postponement of Final Determination, and Extension of Provisional Measures, 89 FR 344 (January 3, 2024) (China Preliminary Determination), and accompanying PDM; Certain Paper Shopping Bags from Colombia: Preliminary Affirmative Determination of Sales at Less Than Fair Value, Postponement of Final Determination, and Extension of Provisional Measures, 89 FR 319 (January 3, 2024) (Colombia Preliminary Determination), and accompanying PDM; Certain Paper Shopping Bags from India: Preliminary Affirmative Determination of Sales at Less Than Fair Value, Preliminary Negative Determination of Critical Circumstances, Postponement of Final Determination, and Extension of Provisional Measures, 89 FR 336 (January 3, 2024) (India Preliminary Determination), and accompanying PDM; Certain Paper Shopping Bags from Malaysia: Preliminary Affirmative Determination of Sales at Less-Than-Fair-Value, 89 FR 333 (January 3, 2024) (Malaysia Preliminary Determination), and accompanying PDM; Certain Paper Shopping Bags from Portugal: Preliminary Affirmative Determination of Sales at Less Than Fair Value, Preliminary Negative Determination of Critical Circumstances, and Postponement of Final Determination, and Extension of Provisional Measures, 89 FR 341 (January 3, 2024) (Portugal Preliminary Determination), and accompanying PDM; Certain Paper Shopping Bags from Taiwan: Preliminary Affirmative Determination of Sales at Less Than Fair Value, Preliminary Affirmative Determination of Critical Circumstances, Postponement of Final Determination, and Extension of Provisional Measures, 89 FR 331 (January 3, 2024) (Taiwan Preliminary Determination), and accompanying PDM; and Certain Paper Shopping Bags from the Socialist Republic of Vietnam: Preliminary Affirmative Determination of Sales at Less Than Fair Value, Preliminary Affirmative Critical Circumstances Determination, Postponement of Final Determination, and Extension of Provisional Measures, 89 FR 321 (January 3, 2024) (Vietnam Preliminary Determination), and accompanying PDM (collectively, Preliminary Determinations).

⁵ See Cambodia Final Determination, 89 FR 45841; see also China Final Determination, 89 FR 45823; Colombia Final Determination, 89 FR 45843; India Final Determination, 89 FR 45826; Malaysia Final Determination, 89 FR 45821; Portugal Final Determination, 89 FR 45845; Taiwan Final Determination, 89 FR 45832; and Vietnam Final Determination, 89 FR 45839.

Critical Circumstances

With respect to the ITC's negative critical circumstances determination on imports of paper bags from Cambodia, China, India, Taiwan, and Vietnam, we will instruct CBP to lift the suspension of liquidation and to refund all cash deposits for estimated antidumping duties with respect to entries of the subject merchandise entered, or withdrawn from warehouse, for consumption on or after October 5, 2023 (i.e., 90 days prior to the date of the publication of the Cambodia Preliminary Determination, China Preliminary Determination, India Preliminary Determination, Taiwan Preliminary Determination, and Vietnam Preliminary Determination), but before January 3, 2024, the date of publication of the Preliminary Determinations.

Continuation of Suspension of Liquidation and Cash Deposits

Except as noted in the “Provisional Measures” section of this notice, in accordance with section 736 of the Act, Commerce intends to instruct CBP to continue to suspend liquidation on all relevant entries of paper bags from Cambodia, China, Colombia, India, Malaysia, Portugal, Taiwan, and Vietnam, effective July 10, 2024, the date of publication of the ITC Final Determination. These instructions suspending liquidation will remain in effect until further notice.

Further, Commerce intends to instruct CBP to require cash deposits equal to the estimated weighted-average dumping margins, with offsets for export subsidies where appropriate, as indicated in the tables below. Accordingly, effective July 10, 2024, the date of publication of the ITC Final Determination, CBP will suspend the liquidation of entries of subject merchandise, and require, at the same time that importers would normally deposit estimated duties on the merchandise, a cash deposit equal to the rates listed below. The relevant all-others rates apply to all producers or exporters not specifically listed, as appropriate.

Provisional Measures

Section 733(d) of the Act states that instructions issued under section 733(d)(1) and (2) of the Act pursuant to an affirmative preliminary determination may not remain in effect for more than four months, except where exporters representing a significant proportion of exports of the subject merchandise request that Commerce extends the four-month period to no more than six months. At the request of exporters that account for a significant proportion of exports of paper bags from Cambodia, China, Colombia, India, Malaysia, Portugal, Taiwan, and Vietnam, Commerce extended the four-month period to six months in these investigations. Commerce published the Preliminary Determinations on January 3, 2024.⁶

⁶ See Cambodia Preliminary Determination, 89 FR 325; see also China Preliminary Determination, 89 FR 344; Colombia Preliminary Determination, 89 FR 319; India Preliminary Determination, 89 FR 336; Malaysia Preliminary Determination, 89 FR 333; Portugal Preliminary Determination, 89 FR 341; Taiwan Preliminary Determination, 89 FR 331; and Vietnam Preliminary Determination, 89 FR 321.

The extended provisional measures period, beginning on the date of publication of the Preliminary Determinations, ended on June 30, 2024. Therefore, in accordance with section 733(d) of the Act, Commerce intends to instruct CBP to terminate the suspension of liquidation and to liquidate, without regard to antidumping duties, certain ⁷ unliquidated entries of paper bags from Cambodia, China, Colombia, India, Malaysia, Portugal, Taiwan, and Vietnam entered, or withdrawn from warehouse, for consumption after June 30, 2024, the final day on which the provisional measures were in effect, through the day preceding the date of publication of the ITC Final Determination. Suspension of liquidation and the collection of cash deposits will resume on the date of publication of the ITC Final Determination.

⁷ In the investigation of paper bags from Taiwan, Commerce's preliminary determination was negative with respect to Haur Tyi Paper Bag Co., Ltd., but Commerce's final determination for the company was affirmative. Accordingly, we directed CBP to suspend liquidation for Haur Tyi Paper Bag Co., Ltd.'s entries from the date of publication of the Taiwan Final Determination and, at the time of publication of this order, we have not issued instructions pertaining to the expiration of provisional measures for Haur Tyi Paper Bag Co., Ltd.

Estimated Weighted-Average Dumping Margins

The estimated weighted-average dumping margins as published in Commerce's Final Determinations are as follows:

Cambodia
Producer or exporter | Estimated weighted- average dumping margin (percent)
Nice Packaging (Cambodia) Co., Ltd | 7.07
UUPak Company Limited | 7.07
Pan Pacific Plastics Manufacturing, Inc | * 248.81
All Others | 7.07
* Rate based on facts available with adverse inferences.

China
Exporter | Producer | Estimated weighted- average dumping margin (percent) | Cash deposit rate (adjusted for export subsidy offset(s) (percent)
UUPAK Co., Ltd | Tianjin Haishun Printing & Packing Co., Ltd | 73.05 | 62.07
Fujian Eco Packaging Co., Ltd | Fujian Hongkai Packaging Co., Ltd | 73.05 | 62.07
Fujian Eco Packaging Co., Ltd | Fujian Yihe Packaging Co., Ltd | 73.05 | 62.07
Fujian Eco Packaging Co., Ltd | Guangdong Union Eco-Packaging Scien-Tech Co., Ltd | 73.05 | 62.07
Fujian Eco Packaging Co., Ltd | Xiamen Huide Eco-friendly Paper Bags Co., Ltd | 73.05 | 62.07
Fujian Eco Packaging Co., Ltd | Xiamen Jihong Technology Co., Ltd | 73.05 | 62.07
Fujian Nanwang Environment Protection Scien-tech Co., Ltd | Anhui Nanwang Environmental Protection Technology Co., Ltd | 73.05 | 61.65
Fujian Nanwang Environment Protection Scien-tech Co., Ltd | Fujian Nanwang Environment Protection Scien-tech CO., LTD | 73.05 | 61.65
Fujian Nanwang Environment Protection Scien-tech Co., Ltd | Hubei Nanwang Environmental Protection Scien-tech Co., Ltd | 73.05 | 61.65
Fujian Nanwang Environment Protection Scien-tech Co., Ltd | Xianghe Nanwang Environmental Protection Technology Co., Ltd | 73.05 | 61.65
Fujian Nanwang Environment Protection Scien-tech Co., Ltd | Zhuhai Zhongyue Paper CUP Container Co., Ltd | 73.05 | 61.65
Grand Intelligent Limited | Ruichuang Limited | 73.05 | 62.07
Max Fortune Industrial Ltd | Winner Printing and Packaging (He Yuan) Ltd | 73.05 | 62.07
Ningbo Beiheng Import & Export Company Limited | Wenzhou Weijie Packing Co., Ltd | 73.05 | 62.07
Shanghai Miho Package & Product Co., Ltd | Zhejiang Shengxiang Industrial Co., Ltd | 73.05 | 62.07
Union Packaging Group Limited | Guangdong Union Eco-Packaging Scien-Tech Co., Ltd | 73.05 | 62.07
Wuxi Hualite Metal Plastic Products Co., Ltd | Wuxi Hualite Paper Products Co., Ltd | 73.05 | 62.07
Xiamen Bag Imp. & Exp. Co., Ltd | Xiamen CYR Green-Tech Co., Ltd | 73.05 | 62.07
Xiamen Huide Xiesheng Packaging Co., Ltd | Xiamen Huide Eco-Friendly Paper Bags Co., Ltd | 73.05 | 62.07
Xiamen Jihong Technology Co., Ltd | Xiamen Jihong Technology Co., Ltd | 73.05 | 62.07
Xiamen Joy Supply Chain Co., Ltd | Fujian Huian Nice Paper Products Co., Ltd | 73.05 | 62.07
Xiamen Joy Supply Chain Co., Ltd | Xiamen THINKER Packaging Products Co., Ltd | 73.05 | 62.07
Xiamen Nice Packaging Products Co., Ltd | Fujian Huian Nice Paper Products Co., Ltd | 73.05 | 62.07
Xiamen Nice Packaging Products Co., Ltd | Xiamen THINKER Packaging Products Co., Ltd | 73.05 | 62.07
China-wide Entity | * 146.32 | 135.77
* Rate based on facts available with adverse inferences.

Colombia
Producer or exporter | Estimated weighted- average dumping margin (percent)
Ditar, S.A | 11.06
Industria Colombiana de Papeles | * 56.14
Fábrica de Bolsas de Papel | * 56.14
All Others | 11.06
* Rate based on facts available with adverse inferences.

India
Producer or exporter | Estimated weighted- average dumping margin (percent) | Cash deposit rate (adjusted for export subsidy offset(s) (percent)
Aeroplast Packaging Solution Private Limited; Aero Plast Limited; Aero Business Solutions Private Limited | 0.00 | Not Applicable
Kuloday Plastomers Pvt. Ltd | 4.59 | 1.20
Adeera Packaging Pvt. Ltd | 4.59 | 1.20
Amate Products Pvt. Ltd | 4.59 | 1.20
Apex Paper and Plastic and Film | * 53.05 | 49.66
Archies Limited | 4.59 | 1.20
Asha Overseas | * 53.05 | 49.66
Carrywell Packaging Pvt. Ltd | 4.59 | 1.20
Colorbox | 4.59 | 1.20
Dynaflex Private Limited | 4.59 | 1.20
Godhani Exports | * 53.05 | 49.66
Pack Easy Paper Products | * 53.05 | 49.66
Pack Planet Pvt. Ltd | 4.59 | 1.20
Poonam | 4.59 | 1.20
Shriniwas Enterprises | 4.59 | 1.20
Tejaswi Plastic Pvt. Ltd | 4.59 | 1.20
The Velvin Group (DBA Velvin Packaging Solutions Pvt. Ltd. and Velvin Paper Products) | 4.59 | 2.21
Vama Packaging | 4.59 | 1.20
All Others | 4.59 | 1.20
* Rate based on facts available with adverse inferences.

Malaysia
Producer or exporter | Estimated weighted- average dumping margin (percent)
Hexachase Packaging Sdn. Bhd | 3.18
Nanwang Pack (M) Sdn. Bhd | * 112.22
Kooka Paper Manufacturing Sdn. Bhd | * 112.22
All Others | 3.18
* Rate based on facts available with adverse inferences.

Portugal
Producer or exporter | Estimated weighted- average dumping margin (percent)
Finieco Indústria e Comércio de Embalagens, S.A | 6.14
All Others | 6.14

Taiwan
Producer or exporter | Estimated weighted- average dumping margin (percent)
Haur Tyi Paper Bag Co., Ltd | 4.74
Juang Jia Guoo Co., Ltd | * 65.81
All Others | 4.74
* Rate based on facts available with adverse inferences.

Vietnam ⁸
Exporter | Producer | Estimated weighted- average dumping margin (percent)
Goldsun Packaging and Printing Joint Stock Company | Goldsun Packaging and Printing Joint Stock Company | 36.51
Dong Sung Printing Co., Ltd | Dong Sung Vina Printing Co., Ltd | 36.51
Khang Thanh Manufacturing Company Limited | Khang Thanh Manufacturing Company Limited | 36.51
Vietnam Red Star Industry Company Limited | Vietnam Red Star Industry Company Limited | 36.51
Vietnam-Wide Entity | * 92.34
* Rate based on facts available with adverse inferences.

Establishment of the Annual Inquiry Service List

⁸ Regarding Dong Sung Printing Co., Ltd., and Dong Sung Vina Printing Co., Ltd., Dong Sung is sometimes translated as one word “Dongsung.”

On September 20, 2021, Commerce published the final rule titled “Regulations to Improve Administration and Enforcement of Antidumping and Countervailing Duty Laws” in the Federal Register.⁹ On September 27, 2021, Commerce also published the notice titled “Scope Ruling Application; Annual Inquiry Service List; and Informational Sessions” in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ¹²

¹² This segment will be combined with the ACCESS Segment Specific Information (SSI) field, which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹³ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹³ See Final Rule, 86 FR 52335.

Notifications to Interested Parties

This notice constitutes the AD orders with respect to paper bags from Cambodia, China, Colombia, India, Malaysia, Portugal, Taiwan, and Vietnam pursuant to section 736(a) of the Act. Interested parties can find a list of AD orders currently in effect at https://www.trade.gov/data-visualization/adcvd-proceedings.

These AD orders are published in accordance with section 736(a) of the Act and 19 CFR 351.211(b).

Dated: July 11, 2024.
Abdelali Elouaradia,
Deputy Assistant Secretary for Enforcement and Compliance.

Appendix

Scope of the Orders

The merchandise covered by these orders consists of paper shopping bags with handles of any type, regardless of whether there is any printing, regardless of how the top edges are finished (e.g., folded, serrated, or otherwise finished), regardless of color, and regardless of whether the top edges contain adhesive or other material for sealing closed. Subject paper shopping bags have a width of at least 4.5 inches and depth of at least 2.5 inches.

Paper shopping bags typically are made of kraft paper but can be made from any type of cellulose fiber, paperboard, or pressboard with a basis weight less than 300 grams per square meter (GSM).

A non-exhaustive illustrative list of the types of handles on shopping bags covered by the scope include handles made from any materials such as twisted paper, flat paper, yarn, ribbon, rope, string, or plastic, as well as die-cut handles (whether the punchout is fully removed or partially attached as a flap).

Excluded from the scope are:

• Paper sacks or bags that are of a ⅙ or ⅐ barrel size (i.e., 11.5-12.5 inches in width, 6.5-7.5 inches in depth, and 13.5-17.5 inches in height) with flat paper handles or die-cut handles;

• Paper sacks or bags with die-cut handles, a grams per square meter paper weight of less than 86 GSM, and a height of less than 11.5 inches; and

• Paper sacks or bags (i) with non-paper handles made wholly of woven ribbon or other similar woven fabric ¹⁴ and (ii) that are finished with folded tops or for which tied knots or t-bar aglets (made of wood, metal, or plastic) are used to secure the handles to the bags.

¹⁴ Paper sacks or bags with handles made of braided or twisted materials, such as rope or cord, do not qualify for this exclusion.

The above-referenced dimensions are provided for paper bags in the opened position. The height of the bag is the distance from the bottom fold edge to the top edge (i.e., excluding the height of handles that extend above the top edge). The depth of the bag is the distance from the front of the bag edge to the back of the bag edge (typically measured at the bottom of the bag). The width of the bag is measured from the left to the right edges of the front and back panels (upon which the handles typically are located).

This merchandise is currently classifiable under Harmonized Tariff Schedule of the United States (HTSUS) subheadings 4819.30.0040 and 4819.40.0040. The HTSUS subheadings are provided for convenience and customs purposes only; the written description of the scope is dispositive.

[FR Doc. 2024-15746 Filed 7-17-24; 8:45 am]

BILLING CODE 3510-DS-P